DEPARTMENT OF TRANSPORTATION

Surface Transportation Board

49 CFR Parts 1150 and 1180

[STB Ex Parte No. 659]

Public Participation in Class Exemption Proceedings

AGENCY: Surface Transportation Board, Transportation.

ACTION: Final rule.

SUMMARY: The Surface Transportation Board is modifying the timeframes in its rules for certain class exemptions to provide greater public notice in advance of the possible consummation of an exempt transaction. The proposed changes will ensure that the public is given notice of a proposed transaction before the exemption becomes effective; and that the Board may process such notices of exemption, and related petitions for stay, if any, in an orderly and timely fashion.

DATES: These rules are effective November 23, 2006.

ADDRESSES: Comments and material received from the public, as well as documents referred to herein, are part of STB Ex Parte No. 659 and are available for inspection or copying at the Board's Public Docket Room, Room 755, 1925 K Street, NW., Washington, DC 20423-0001, are posted on the Board's http://www.stb.dot.gov Web site, and are available from the Board's contractor, ASAP Document Solutions (mailing address: Suite 103, 9332 Annapolis Rd., Lanham, MD 20706; e-mail address: asapdc@verizon.net; telephone number: 202-306-4004).

FOR FURTHER INFORMATION CONTACT: Joseph H. Dettmar, (202) 565-1609. [Assistance for the hearing impaired is available through the Federal Information Relay Service (FIRS) at 1-800-877-8339.]

SUPPLEMENTARY INFORMATION: The purpose for this rulemaking was set forth in the notice of proposed rulemaking (NPRM) served by the Board on March 10, 2006, and published in the Federal Register on March 16, 2006 (71 FR 13563-5). The Board is revising the class exemption procedures at 49 CFR 1150.31, et seq., 49 CFR 1150.41, et seq., and 49 CFR 1180.2(d), so that the exemptions will take effect 30 days (rather than 7 days) after a notice is filed, and Federal Register publication of the notice will precede the effective date of the exemption. The notice provisions at 49 CFR 1150.35 and 1150.45 (both of which involve transactions that would create a Class I or Class II carrier) also are revised, to allow transactions under these class exemptions to go forward in 45 days (rather than 21 days). The Board is adopting the changes as proposed in the NPRM. As indicated there, only the procedural timeframes for these rules are being revised—their scope, purpose and effect otherwise remain the same. This proceeding is based on the Board's exemption authority at 49 U.S.C. 10502.

Comments

The Board received comments on the proposed rules from the American Short Line and Regional Railroad Association; Association of American Railroads; John D. Fitzgerald; Genesee & Wyoming Inc.; the State of New Jersey; Rail Conference, International Brotherhood of Teamsters; Rail Labor Division, Transportation Trades Department, AFL-CIO; and Watco Companies, Inc. A summary of this rulemaking proceeding and a discussion of the comments received in response to it, are set forth in the Board's decision served on October 19, 2006. That decision also provides a discussion of the Board's reasons for adopting the rules as originally proposed. For further information on the decision, interested parties should consult the Board's Web site at http://ww.stb.dot.gov.

Regulatory Flexibility Analysis

The Board concludes that this action will not have a significant effect on a substantial number of small entities.

This action will not significantly affect either the quality of the human environment or the conservation of energy resources.

List of Subjects in 49 CFR Parts 1150 and 1180

Administrative Practice and Procedure, Railroads.

Authority: 49 U.S.C. 10502 and 5 U.S.C. 553.

Decided: October 17, 2006.
By the Board, Chairman Nottingham, Vice Chairman Mulvey, Commissioner Buttrey.
Vernon A. Williams,
Secretary.

For the reasons set forth in the preamble, the Surface Transportation Board amends parts 1150 and 1180 of title 49, chapter X, of the Code of Federal Regulations as follows:

PART 1150—CERTIFICATE TO CONSTRUCT, ACQUIRE, OR OPERATE RAILROAD LINES.

1. The authority citation for part 1150 continues to read as follows:

Authority: 49 U.S.C. 721(a), 10502, 10901, and 10902.

2. Amend § 1150.32 as follows:

A. In paragraph (b), remove the words “30 days” and add, in their place the words “16 days”.

B. In paragraph (b), remove the words “7 days” and add, in their place, the words “30 days”.

C. In paragraph (c), add a new sentence to the end of the paragraph to read as follows:

§ 1150.32 Procedures and relevant dates—transactions that involve creation of Class III carriers.

* * * * *

(c) * * * Stay petitions must be filed at least 7 days before the exemption becomes effective.

* * * * *

3. Amend § 1150.35 as follows:

A. In paragraph (e), remove the words “21 days” and add, in their place, the words “45 days”.

B. In paragraph (e), remove the words “30 days” and add, in their place, the words “16 days”.

C. In paragraph (f), revise the third sentence to read as follows:

§ 1150.35 Procedures and relevant dates—transactions that involve creation of Class I or Class II carriers.

* * * * *

(f) * * * Stay petitions must be filed at least 14 days before the exemption becomes effective. * * *

* * * * *

4. Amend § 1150.42 as follows:

A. In paragraph (b), remove the words “30 days” and add, in their place, the words “16 days”.

B. In paragraph (b), remove the words “7 days” and add, in their place, the words “30 days”.

C. In paragraph (c), add a new sentence to the end of the paragraph to read as follows:

§ 1150.42 Procedures and relevant dates for small line acquisitions.

* * * * *

(c) * * * Stay petitions must be filed at least 7 days before the exemption becomes effective.

* * * * *

5. Amend § 1150.45 as follows:

A. In paragraph (e), remove the words “21 days” and add, in their place, the words “45 days”.

B. In paragraph (e), remove the words “30 days” and add, in their place, the words “16 days”.

C. In paragraph (f), revise the third sentence to read as follows:

§ 1150.45 Procedures and relevant dates—transactions under section 10902 that involve creation of Class I or Class II rail carriers.

* * * * *

(f) * * * Stay petitions must be filed at least 14 days before the exemption becomes effective. * * *

* * * * *

PART 1180—RAILROAD ACQUISITION, CONTROL, MERGER, CONSOLIDATION PROJECT, TRACKAGE RIGHTS, AND LEASE PROCEDURES.

6. The authority citation for part 1180 continues to read as follows:

Authority: 5 U.S.C. 553 and 559; 11 U.S.C. 1172; 49 U.S.C. 721, 10502, 11323-11325.

7. Amend § 1180.4 as follows:

A. In paragraph (g)(1) introductory text, remove the words “one week” and add, in their place, the words “30 days”.

B. In paragraph (g)(1)(ii), remove the words “30 days” and add, in their place, the words “16 days”.

C. Redesignate paragraph (g)(1)(iii) as paragraph (g)(1)(iv) and add a new paragraph (g)(1)(iii).

D. Remove paragraph (g)(2)(ii).

E. Redesignate paragraph (g)(2)(iii) as paragraph (g)(2)(ii).

F. Remove paragraph (g)(2)(iv).

§ 1180.4 Procedures.

* * * * *

(g) * * *

(1) * * *

(iii) The filing of a petition to revoke under 49 U.S.C. 10502(d) does not stay the effectiveness of an exemption. Stay petitions must be filed at least 7 days before the exemption becomes effective.

* * * * *

[FR Doc. E6-17759 Filed 10-23-06; 8:45 am]

BILLING CODE 4915-01-P